ENVIRONMENTAL PROTECTION AGENCY

40 CFR Parts 52 and 81

[EPA-R09-OAR-2006-0306; FRL-8570-7]

Approval and Promulgation of Implementation Plans; Designation of Areas for Air Quality Planning Purposes; State of California; PM-10; Revision of Designation; Redesignation of the San Joaquin Valley Air Basin PM-10 Nonattainment Area to Attainment; Approval of PM-10 Maintenance Plan for the San Joaquin Valley Air Basin; Approval of Commitments for the East Kern PM-10 Nonattainment Area; Extension of Public Comment Period

AGENCY: Environmental Protection Agency (EPA).

ACTION: Proposed rule; extension of public comment period.

SUMMARY: EPA is extending the public comment period for the proposed rule entitled “Approval and Promulgation of Implementation Plans; Designation of Areas for Air Quality Planning Purposes; State of California; PM-10; Revision of Designation; Redesignation of the San Joaquin Valley Air Basin PM-10 Nonattainment Area to Attainment; Approval of PM-10 Maintenance Plan for the San Joaquin Valley Air Basin; Approval of Commitments for the East Kern PM-10 Nonattainment Area.” The proposed rule was published on April 25, 2008 (73 FR 22307). The State of California has since provided technical corrections to the motor vehicle emissions budgets in the 2007 San Joaquin Valley PM-10 Maintenance Plan that EPA is proposing to approve. EPA believes the technical corrections are minor and do not impact other aspects of the April 25, 2008 proposal. EPA is extending the public comment period for the proposed rule until June 10, 2008 in order to provide the public with the opportunity to consider these technical corrections.

DATES: The public comment period for this proposed rule is extended until June 10, 2007.

ADDRESSES: Submit your comments, identified by docket number EPA-R09-OAR-2006-0306, by one of the following methods:

(1) Federal eRulemaking Portal: http://www.regulations.gov.

(2) E-mail: lo.doris@epa.gov.

(3) Mail or deliver: Doris Lo (AIR-2), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through the http://www.regulations.gov or e-mail. http://www.regulations.gov is an anonymous access system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed directly below.

FOR FURTHER INFORMATION CONTACT: Doris Lo, EPA Region IX, (415) 972-3959, lo.doris@epa.gov.

SUPPLEMENTARY INFORMATION: On April 21, 2008 the Regional Administrator signed a proposed rule entitled “Approval and Promulgation of Implementation Plans; Designation of Areas for Air Quality Planning Purposes; State of California; PM-10; Revision of Designation; Redesignation of the San Joaquin Valley Air Basin PM-10 Nonattainment Area to Attainment; Approval of PM-10 Maintenance Plan for the San Joaquin Valley Air Basin; Approval of Commitments for the East Kern PM-10 Nonattainment Area.” This rule was published on April 25, 2008 (73 FR 22307) and, among other things, proposed to approve county by county subarea motor vehicle emissions budgets (MVEB) in the 2007 San Joaquin Valley PM-10 Maintenance Plan (2007 Plan) for the San Joaquin Valley Air Basin (SJVAB) PM-10 nonattainment area ¹ for the years 2005 and 2020. See 73 FR 22307, 22315-22317, Table 4. The California Air Resources Board (CARB) used its mobile source emission model, EMFAC2007, to estimate the direct particulate matter of ten microns or less (PM-10) emissions and oxides of nitrogen (NOX) emissions for the MVEBs.

¹ The nonattainment area includes the entire counties of San Joaquin, Fresno, Kings, Madera, Merced, Stanislaus and Tulare and part of Kern County.

CARB has provided EPA with technical corrections to the 2020 MVEBs for Merced, San Joaquin, Stanislaus and Tulare counties in the 2007 Plan. See the May 13, 2008 letter to Mr. Wayne Nastri from James N. Goldstene. As discussed in the letter, the MVEBs for these four counties were incorrectly calculated because the input processor for the EMFAC2007 emissions model used the wrong travel activity data for 2020. The correct MVEBs are shown in revised Table 4 below, which replaces Table 4 in the proposed rule at 73 FR 22316-22317:

Table 4.—Motor Vehicle Emissions Subarea Budgets (Tons per Day) San Joaquin Valley Air Basin 2007 Plan *
County | 2005: PM-10 | 2005: NOX | 2020: PM-10 | 2020: NOX
Fresno | 13.5 | 59.2 | 16.1 | 23.2
Kern ** | 12.1 | 88.3 | 14.7 | 39.5
Kings | 3.1 | 16.7 | 3.6 | 6.8
Madera | 3.6 | 13.9 | 4.7 | 6.5
Merced | 6.2 | 39.2 | 6.4 | 12.9
San Joaquin | 9.1 | 42.6 | 10.6 | 17.0
Stanislaus | 5.6 | 29.7 | 6.7 | 10.8
Tulare | 7.3 | 25.1 | 9.4 | 10.9
Total | 60.5 | 314.7 | 72.2 | 127.6
* The budgets are based on attainment and maintenance of the 24-hour PM-10 NAAQS. The annual standard was revoked on December 18, 2006. See 71 FR 61144.
** MVEBs in Table 4 are only for the SJVAB portion of Kern County.

The difference between the 2020 budgets found in the 2007 Plan and the 2020 budgets provided in the May 13, 2008 letter are small and Valley-wide result in no change in total PM-10 emissions and an increase of only 0.2 tons per day in NOX emissions. EPA believes that the changes in the budgets do not impact the maintenance demonstration in the 2007 Plan because they are small. Therefore these technical corrections have no effect on EPA's preliminary conclusion that the subarea 2020 MVEBs for Merced, San Joaquin, Stanislaus and Tulare counties are approvable (73 FR 22316-22317) or on any other aspects of the proposed rule.

EPA is extending the public comment period for the proposed rule until June 10, 2008 in order to provide the public with the opportunity to consider these technical corrections.

Dated: May 15, 2008.
Wayne Nastri,
Regional Administrator, Region 9.

[FR Doc. E8-11605 Filed 5-22-08; 8:45 am]

BILLING CODE 6560-50-P